NATIONAL AERONAUTICS AND SPACE ADMINISTRATION

[Notice: (16-092)]

NASA Advisory Council; Science Committee Earth Science Subcommittee; Meeting.

AGENCY: National Aeronautics and Space Administration.

ACTION: Notice of meeting.

SUMMARY: In accordance with the Federal Advisory Committee Act, Public Law 92-463, as amended, the National Aeronautics and Space Administration (NASA) announces a meeting of the Earth Science Subcommittee of the NASA Advisory Council (NAC). This Subcommittee reports to the Science Committee of the NAC. The meeting will be held for the purpose of soliciting, from the scientific community and other persons, scientific and technical information relevant to program planning.

DATES: Tuesday, January 10, 2017, 8:30 a.m.-5:30 p.m., and Wednesday, January 11, 2017, 8:30 a.m.-1:00 p.m., Local Time.

ADDRESSES: NASA Kennedy Space Center, Visitor Complex, Debus Conference Facility, State Road 405, Kennedy Space Center, FL 32899.

FOR FURTHER INFORMATION CONTACT: KarShelia Henderson, Science Mission Directorate, NASA Headquarters, Washington, DC 20546, (202) 358-2355, fax (202) 358-2779, or khenderson@nasa.gov.

SUPPLEMENTARY INFORMATION: The meeting will be open to the public up to the capacity of the meeting room. This meeting is also available telephonically. You must use a touch-tone phone to participate in this meeting. Any interested person may call the USA toll free number 1-888-323-9729 or toll number 1-630-395-0190, passcode 9350886, for both days. The agenda for the meeting includes the following topics:

—Earth Science Division update

—Discussion on small satellites and constellations

—Approaches for articulating the value of Earth science and reviewing annual research program accomplishments

Attendees will be provided a pass to enter the NASA Kennedy Space Center Visitor Complex, and then will be requested to sign a register before access to the meeting. It is imperative that the meeting be held on this date to accommodate the scheduling priorities of the key participants.

Patricia D. Rausch,
Advisory Committee Management Officer, National Aeronautics and Space Administration.

[FR Doc. 2016-31141 Filed 12-23-16; 8:45 am]

BILLING CODE 7510-13-P